NATIONAL FOUNDATION ON THE ARTS AND THE HUMANITIES

National Council on the Arts 182nd Meeting

AGENCY: National Endowment for the Arts, National Foundation on the Arts and Humanities.

ACTION: Notice of Meeting.

SUMMARY: Pursuant to section 10(a)(2) of the Federal Advisory Committee Act (Pub. L. 92-463), as amended, notice is hereby given that a meeting of the National Council on the Arts will be held at Constitution Center, 400 7th St. SW., Washington, DC 20506. This meeting also will be webcast. Agenda times are approximate.

DATES: Friday, June 27, 2014 from 9:00 a.m. to 11:15 a.m.

FOR FURTHER INFORMATION CONTACT: Office of Public Affairs, National Endowment for the Arts, Washington, DC 20506, at 202/682-5570.

SUPPLEMENTARY INFORMATION: The meeting, on Friday, June 27th, will be open to the public on a space available basis. The meeting will begin with opening remarks, and voting on recommendations for funding and rejection and guidelines, followed by updates by the Acting Chairman. There also will be the following presentations (times are approximate): from 9:30 a.m. to 10:00 a.m.—the Survey of Public Participation in the Arts (SPPA), by Sunil Iyengar—Director, NEA Office of Research and Analysis; from 10:00 a.m. to 10:30 a.m.—NEA Grants at the Intersection of Arts and Science, presenter to be determined; from 10:30 a.m. to 11:00 a.m.—Arts Policy Archives at the University of Massachusetts at Amherst, Robert S. Cox—Head, Special Collections & University Archives, UMass Amherst Libraries. From 11:00 a.m. to 11:15 a.m. there will be concluding remarks and voting results. The meeting will adjourn at 11:15 a.m.

For information about webcasting of the open session of this meeting, go to http://arts.gov/event/2014/national-council-arts-june-27-2014-public-meeting.

If, in the course of the open session discussion, it becomes necessary for the Council to discuss non-public commercial or financial information of intrinsic value, the Council will go into closed session pursuant to subsection (c)(4) of the Government in the Sunshine Act, 5 U.S.C. 552b, and in accordance with the February 15, 2012 determination of the Chairman. Additionally, discussion concerning purely personal information about individuals, such as personal biographical and salary data or medical information, may be conducted by the Council in closed session in accordance with subsection (c)(6) of 5 U.S.C. 552b.

Any interested persons may attend, as observers, Council discussions and reviews that are open to the public. If you need special accommodations due to a disability, please contact the Office of Accessibility, National Endowment for the Arts, Constitution Center, 400 7th St. SW., Washington, DC 20506, 202/682-5733, Voice/T.T.Y. 202/682-5496, at least seven (7) days prior to the meeting.

Dated: June 2, 2014.
Kathy Plowitz-Worden,
Panel Coordinator, Office of Guidelines and Panel Operations.

[FR Doc. 2014-13038 Filed 6-4-14; 8:45 am]

BILLING CODE 7537-01-P